DEPARTMENT OF TRANSPORTATION

Federal Aviation Administration

Notice of Intent To Release Certain Properties From All Terms, Conditions, Reservations and Restrictions of a Quitclaim Deed Agreement Between Miami Dade Aviation Department and the Federal Aviation Administration for the Opa Locka Executive Airport, Opa Locka, FL

AGENCY: Federal Aviation Administration (FAA), Transportation (DOT).

ACTION: Request for public comment.

SUMMARY: The FAA hereby provides notice of intent to release 20.327 acres at the Opa Locka Executive Airport, Opa Locka, FL from the conditions, reservations, and restrictions as contained in a Quitclaim Deed agreement between the FAA and the Miami Dade Aviation Department, dated November 16, 1961. The subject property is located at the southwest corner of NW 37 Avenue and NW 151 Street and on the east side of the airport. The parcel is currently designated as aeronautical property. The property will be released of its federal obligations given the land is no longer required by the Miami Dade Aviation Department as aeronautical-use. There would be a positive fiscal impact to the County as the conversion of the use of this acreage from aeronautical use to non-aeronautical use will yield more revenue to the County. As such, Foundry Meek IV LLC would pay a non-aeronautical use land rent rate of $0.86 per square foot, yielding approximately an additional $555,677 for a total of $838,390 in annual rent to the County, a 4X increase in revenue over the aeronautical rent.

DATES: Comments are due on or before November 17, 2021.

ADDRESSES: Documents are available for review at the Miami Dade Aviation Department, P.O. Box 025504 Miami, FL 33102 and the FAA Airports District Office, 8427 SouthPark Circle, Suite 524, Orlando, FL 32819-9058. Written comments on the Sponsor's request must be delivered or mailed to: Pedro Blanco, Program Manager, Orlando Airports District Office, 8427 South Park Circle, Suite 524, Orlando, FL 32819-9058.

In addition, a copy of any comments submitted to the FAA must be mailed or delivered to Mr. Jose A. Ramos, Division Director Aviation Planning, Land-Use and Grants, Miami Dade Aviation Department, P.O. Box 025504 Miami, FL 33102.

FOR FURTHER INFORMATION CONTACT: Pedro Blanco, Program Manager, Orlando Airports District Office, 8427 SouthPark Circle, Suite 524, Orlando, FL 32819-9058. Mr. Blanco can also be reached at 407-487-7230.

SUPPLEMENTARY INFORMATION: All monies received would go into the funds for the Miami Dade Aviation Department System of Airports to be disbursed for development and improvement projects. Future use of the subject parcel must comply with all Miami Dade Aviation Department zoning and land use regulations as established by the Miami Dade Aviation Department. Any proposed development of the subject parcel will require submittal of an Obstruction Evaluation/Airport Airspace Analysis (OE/AAA) for review by the Federal Aviation Administration.

Documents reflecting the Sponsor's request are available, by appointment only, for inspection at the Opa Locka Executive Airport and the FAA Airports District Office.

Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, FL on October 13, 2021.
Rebecca Henry Harper,
Acting Manager, Orlando Airports District Office, Southern Region.

[FR Doc. 2021-22637 Filed 10-15-21; 8:45 am]

BILLING CODE 4910-13-P